ENVIRONMENTAL PROTECTION AGENCY

[OPP-2003-0141; FRL-7304-5]

Region III Strategic Agricultural Initiative Grants; Notice of Availability

AGENCY: Environmental Protection Agency (EPA).

ACTION: Notice.

SUMMARY: EPA is soliciting proposals to help implement the Food Quality Protection Act (FQPA) and to support “transition” to using less and lower risk pesticides in food production. The program supports innovative efforts that enable growers to decrease reliance on agricultural pesticides while maintaining economical outcomes, by developing, demonstrating and/or applying reduced risk alternatives and ecologically based integrated approaches to pest management. This grant program encourages “systems” approaches that integrate pest, soil, and crop management practices. Although the focus is on reducing dependency on pesticides and developing alternatives to pesticides targeted under FQPA, a broader approach to problem solving is encouraged in the development of project proposals under FQPA and section 20 of the Federal Insecticide, Fungicide, and Rodenticide Act (FIFRA) as amended.

DATES: Proposals must be postmarked/received by 5 p.m. eastern standard time, July 31, 2003.

ADDRESSES: Proposals may be submitted electronically, by mail, or through hand delivery/courier to John Butler at the address/e-mail listed under FOR FURTHER INFORMATION CONTACT.

FOR FURTHER INFORMATION CONTACT: John Butler, Environmental Protection Agency, Region III, Mail code 3WC32, Waste & Chemicals Management Division, 1650 Arch Street, Philadelphia, PA 19103-2029; telephone number: (215) 814-2127; fax number: (215) 814-3113; e-mail address: butler.john@epa.gov.

SUPPLEMENTARY INFORMATION:

I. General Information

A. Does this Action Apply to Me?

This action is directed to the public in general. This action may, however, be of interest to eligible applicants who primarily operate out of and will conduct the project in one of the following Region III States: Delaware, Maryland, Pennsylvania, Virginia, and West Virginia or the District of Columbia. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Docket. EPA has established an official public docket for this action under docket identification (ID) number OPP-2003-0141. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. Additional information is available on EPA's PESP website at http://www.epa.gov/oppbppd1/PESP/regional_grants.htm.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

3. By mail or in person. Contact the person listed under FOR FURTHER INFORMATION CONTACT.

II. Purpose of this Request

EPA's, Waste & Chemicals Management Division, Pesticides/Asbestos Programs & Enforcement Branch, Region III, is requesting proposals which will help implement requirements of FQPA, and to support the transition to using less and lower risk pesticides in food production. The program supports innovative efforts that enable growers to decrease reliance on agricultural pesticides while maintaining economical outcomes, by developing, demonstration and/or applying reduced risk alternatives and ecologically based integrated approaches to pest management. This program is included in the catalog of Federal Domestic Assistance under number 66.716.

III. High Priority Areas for Consideration

EPA will award Food Quality Protection Act Strategic Agricultural Initiative grants under the authority of section 20 of FIFRA as amended by FQPA, for projects involving research, development, monitoring, public education, training, demonstrations and studies that enable growers to decrease reliance on agricultural pesticides while maintaining economical outcomes, by developing, demonstration and/or applying reduced risk alternatives and ecologically based integrated approaches to pest management. These proposals should incorporate the following techniques:

1. Utilize demonstration projects, outreach and/or education to increase the adoption of integrated or sustainable agricultural production practices which provide alternatives to pesticides impacted negatively by FQPA decisions.

2. Work collaboratively with producers, commodity groups, and other stakeholders by making the best use of expert field consultants, USDA research, EPA's safer substitutes, and university technical support on alternatives and integrated pest management practices.

3. Actively engage scientists, farmers, industry, and local, State and Federal partners in the specifics of implementing FQPA.

4. Demonstrate region-specific pest management technologies and integrated crop management systems to replace pesticide uses which may be canceled under FQPA.

5. Use “farmer to farmer” training and communication methods, community participation, and/or other forms of public-private cooperation.

IV. Grant Specifics

1. Amount of funding available. A total of approximately $100,000 in Federal funds is available to award for projects in Region III. The number of awards will depend on individual proposal cost; the final aggregate amount of Federal funding for all proposals; and the total amount of Federal funding available. Should additional funding become available for award, the Agency may award additional grants based on this solicitation and in accordance with the final selection process, without further notice of competition.

2. Funding type. The funding for selected award projects is in the form of a grant awarded under FIFRA.

3. Right to reject all initial proposals. The Agency reserves the right to reject all proposals and make no awards.

4. Matching/cost share requirements. There are no cost share requirements for these projects. However, matching funds are encouraged.

5. Project period time frame. The project period time frame should not exceed 2 years.

6. Eligible applicants. Grant funds are available to non-profit groups, including commodity groups/associations and farmers' groups, State agencies, Tribal governments, cooperative extension, universities, and institutes of higher learning. Ineligible groups are encouraged to work with an eligible organization to submit proposals. Implementation of all projects must occur within one of the States of EPA Region III (Delaware, Maryland, Pennsylvania, Virginia, West Virginia) or the District of Columbia. EPA will consider only one proposal by an applicant.

7. Proposal submittal. All proposals should be mailed or hand delivered to: John Butler, Environmental Protection Agency, Region III, Waste & Chemicals Management Division, Mail code (3WC32), 1650 Arch Street, Philadelphia, PA 19103-2029.

8. Due dates. EPA will consider all proposals which are postmarked by the U.S. Postal Service, hand delivered, or electronically delivered to the Agency, or include official delivery service documentation indicating EPA acceptance from a delivery service, on or before the deadline published in the request for initial proposals. This due date is on or before 5 p.m. eastern standard time, July 31, 2003. Proposals received after the due date will not be considered for funding.

9. Statutory and regulatory authorities. Strategic Agricultural Initiative Grants will be awarded under the authority of section 20 of FIFRA, as amended, for research, public education, training, monitoring, demonstration and studies. The regulations governing the award and administration of these grants can be found at 40 CFR part 30 for institutions of higher education, colleges and universities, and non-profit organizations; and 40 CFR part 31 for States and local governments.

10. Allowable costs. EPA grant funds may only be used for the purposes set forth in the grant agreement, and must be consistent with the statutory authority for the award. Grant funds may not be used for matching funds for other Federal grants, lobbying, or intervention in Federal regulatory or adjudicatory proceedings. In addition, Federal funds may not be used to sue the Federal government or any other government entity. All costs identified in the budget must conform to applicable Federal Cost Principles contained in OMB Circular A-87; A-122; and A-21, as appropriate.

11. Federal requirements. An applicant whose proposal is selected for Federal funding must complete additional forms prior to award (see 40 CFR 30.12 and 31.10). In addition, successful applicants will be required to certify that they have not been debarred or suspended from participation in Federal assistance awards in accordance with 40 CFR part 32.

12. Intergovernmental review. Applicants must comply with the Intergovernmental Review Process and/or consultation provisions of Executive Order 12372 or section 204 of the Demonstration Cities and Metropolitan Development Act, if applicable, which are contained in 40 CFR part 29. Further information regarding this requirement will be provided if your proposal is selected for funding.

13. Pre-application assistance. None planned.

V. Proposal Format and Contents

Proposals must be typewritten, double spaced in 12 point or larger print using 8.5 x 11 inch paper with minimum 1 inch horizontal and vertical margins. Pages must be numbered in order starting with the cover page and continuing through the appendices. One original and one electronic copy (e-mail or disk) is required. All proposals must include:

1. Completed Standard Form SF 424*, Application for Federal Assistance. Please include organization fax number and e-mail address.

2. Completed Section B--Budget Categories, on page 1 of Standard Form SF 424A*, (See Unit IV.10.--Allowable Cost). Blank forms may be located at http://www.epa.gov/region03/grants/appforms.htm.

3. Detailed itemization of the amounts budgeted by individual Object Class Categories (See Unit IV.10.--Allowable Cost).

4. Statement regarding whether this proposal is a continuation of a previously funded project. If so, please provide the assistance number and status of the current grant/cooperative agreement.

5. Executive Summary. The Executive Summary shall be a stand alone document, not to exceed one page, containing the specifics of what is proposed and what you expect to accomplish regarding measuring or movement toward achieving project goals. This summary should identify the measurable environmental results you expect including potential human health and ecological benefits.

6. Table of contents. A one page table listing the different parts of your proposal and the page number on which each part begins.

7. Proposal narrative. Includes Parts I-VI (Parts I through VI listed below are not to exceed 10 pages).

• Part I--Project title. Self explanatory.

• Part II--Objectives. A numbered list (1, 2, etc.) of concisely written project objectives, in most cases, each objective can be stated in a single sentence.

• Part III--Justification. For each objective listed in Part II, discuss the potential outcome in terms of environmental, human health, pesticide risk and/or use reduction or pollution prevention. If appropriate, the target pest(s) and crop(s) should be explicitly stated. This section should be numbered with a justification corresponding to each objective.

• Part IV--Literature review. Briefly, describe relevant information currently available. This should also include information on projects currently in progress that are relevant to or provide the basis for either the experimental design or the validation of a new approach to pest management.

• Part V--Approach and methods. Describe in detail how the program will be carried out. Describe how the system or approach will support the program goals.

• Part VI--Impact assessment. Please state how you will evaluate the success of the program in terms of measurable environmental results. How and with what measures will humans or ecosystems be better protected as a result of the program.

8. Proposal appendices. These appendices must be included in the grant proposal. Additional appendices are not permitted.

• Literature cited. List cited key literature references alphabetically by author.

• Timetable. A timetable that includes what will be accomplished under each of the objectives during the project and when completion of each objective is anticipated.

• Major participants. This appendix should list all farmers, farm organizations, researchers, educators, and conservationists and others having a major role in the proposal. Provide name, organizational affiliation or occupation (such as farmer) and a description of the role each will play in the project. A brief resume (not to exceed two pages) should be submitted for each major researcher or other educator.

9. Electronic copy. The electronic copy should be e-mailed to butler.john@epa.gov or submitted on a 3.5 disk, IBM compatible, readable in Word Perfect WP6/7/8 for Windows. The electronic copy should be consolidated into a single file. Original copy and disk should be sent to: John Butler, Environmental Protection Agency, Region III, Waste & Chemicals Management Division, 1650 Arch Street, Mail Code (3WC32), Philadelphia, PA 19103-2029. Disks will be checked for computer viruses. Proposals that are submitted with viruses will be disqualified. To be considered, both the paper and electronic copy must be received by the due date.

VI. Preliminary Eligibility Screening Requirements

To be eligible for consideration, applicants must meet all of the following criteria. Failure to meet the following criteria will result in the automatic disqualification of the proposal for funding consideration:

1. Be a applicant who is eligible to receive funding under this announcement.

2. The proposal must address one of more of the High Priority Areas for Consideration.

3. The proposal must meet all format and content requirements contained in this notice.

4. The proposal must comply with the directions for submittal contained in this notice.

VII. Proposed Evaluation Criteria

All proposals will be evaluated based on the following criteria and weights (Total: 100 points) :

1. Qualification and experience of the applicant relative to the proposed project activity. (Weighting: 30 points)

2. Project proposal is consistent with the goals of the FQPA Strategic Agricultural Initiative. (Weighting: 30 points)

3. Provisions for a quantitative or qualitative evaluation of the project success at achieving stated goals. (Weighting: 20 points)

4. Likelihood that the project can be replicated in other areas by other organizations to their benefit. (Weighting: 20 points)

VIII. Processes

A. Evaluation Process

Applicants will be screened to ensure that they meet all eligibility criteria and will be disqualified if they do not meet the criteria. All proposals will be reviewed, evaluated, and ranked by a selected panel of EPA reviewers based on the evaluation criteria listed in Unit VII.

B. Selection Process

The funding decision will be made from the group of top rated proposals based on the following additional factors:

• Region III's environmental priorities which include preventing pollution from one media to another and to strive towards the reduction or elimination of environmental contamination.

• The extent of anticipated environmental impact of the project in Region III.

1. Selection official. The final selection of initial proposals will be made by the Region III, Director, Waste & Chemicals Management Division.

2. Notification. The Region III EPA Office will mail acknowledgments to applicants upon receipt of the proposal. Once proposals have been reviewed, evaluated, and ranked, applicants will be notified regarding the outcome of the competition. A listing of the successful proposals will be posted on the Region III website address at the conclusion of the competition. This website may also contain additional information about this announcement including information concerning deadline extensions or other modifications.

C. Dispute Resolution Process

The procedures for dispute resolution at 40 CFR 30.63 and 40 CFR 31.70 apply.

IX. Confidential Business Information

Applicants should clearly mark information contained in their proposal which they consider confidential business information. EPA reserves the right to make final confidentially decisions in accordance with Agency regulations at 40 CFR part 2, subpart B. If no such claim accompanies the proposal when it is received by EPA, it may be made available to the public by EPA without further notice to the applicant.

X. Congressional Review Act

Under the Agency's current interpretation of the definition of a “rule,” grant solicitations such as this which are competitively awarded on the basis of selection criteria, are considered rules for the purpose of the Congressional Review Act (CRA). The CRA, 5 U.S.C. 801 et seq., as added by the Small Business Regulatory Enforcement Fairness Act of 1996 (SBREFA), generally provides that before a rule may take effect, the agency promulgating the rules must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

List of Subjects

Environmental protection, Administrative practice and procedure, Agricultural commodities, Pesticides and pests, Reporting and recordkeeping requirements.

Dated: June 6, 2003.
Thomas C. Voltaggio,
Acting Regional Administrator, Region III.

[FR Doc. 03-16332 Filed 6-26-03; 8:45 am]

BILLING CODE 6560-50-S